DEPARTMENT OF HOMELAND SECURITY

Federal Emergency Management Agency

[Docket ID FEMA-2021-0019; OMB No. 1660-0068]

Agency Information Collection Activities: Proposed Collection; Comment Request; Federal Hotel and Motel Fire Safety Declaration Form

AGENCY: Federal Emergency Management Agency, Department of Homeland Security.

ACTION: Notice of renewal and request for comments.

SUMMARY: The Federal Emergency Management Agency (FEMA), as part of its continuing effort to reduce paperwork and respondent burden, invites the general public to take this opportunity to comment on an extension without change of a currently approved information collection. In accordance with the Paperwork Reduction Act of 1995, this notice seeks comments concerning a list of hotels, motels, and similar places of public accommodations meeting minimum fire-safety requirements. The information collected is voluntary and if approved for listing, the lodging establishment may be used by Federal employees on government related travel and for Federal agency conferences. As the list is open to use by the public, non-government travelers may use the list to identify lodging meeting minimum life-safety criteria from fire.

DATES: Comments must be submitted on or before September 20, 2021.

ADDRESSES: Submit comments at www.regulations.gov under Docket ID FEMA-2021-0019. Follow the instructions for submitting comments.

All submissions received must include the agency name and Docket ID and will be posted, without change, to the Federal eRulemaking Portal at http://www.regulations.gov, and will include any personal information you provide. Therefore, submitting this information makes it public. You may wish to read the Privacy Act notice that is available on the homepage of www.regulations.gov.

FOR FURTHER INFORMATION CONTACT: Teressa Kaas, Fire Program Specialist, FEMA/U.S. Fire Administration, Teressa.Kaas@fema.dhs.gov or 301-447-1263 for additional information. You may contact the Information Management Division for copies of the proposed collection of information at email address: FEMA-Information-Collections-Management@fema.dhs.gov.

SUPPLEMENTARY INFORMATION: The Hotel and Motel Fire Safety Act of 1990 (Pub. L. 101-391) requires FEMA to establish and maintain a list of hotels, motels, and similar places of public accommodation meeting minimum requirements for protection of life from fire. This list is known as the National Master List (NML). This law resulted from a series of deadly fires in hotels and motels, occurring in the late 70's and 80's, with high loss of life. The legislative intent of this public law is to provide all travelers the assurance of fire-safety in accommodations identified on the NML. Public Law 101-391 further stipulates that Federal employees on official travel stay in properties approved by the authority having jurisdiction and listed on the current NML. For statutory reference see 15 U.S.C. 2224-26.

Collection of Information

Title: Federal Hotel and Motel Fire Safety Declaration Form.

Type of Information Collection: Revision of a currently approved information collection.

OMB Number: 1660-0068.

FEMA Form: FEMA Form 516-0-1, Federal Hotel and Motel Fire Safety Declaration Form.

Abstract: FEMA Form 516-0-1 collects basic information on life-safety systems related directly to fire-safety in hotels, motels, and similar places of accommodations applying for inclusion on the National Master List in compliance with the Hotel and Motel Fire Safety Act of 1990 (Pub. L. 101-391). Information is published in the National Master List and is publicly available.

Affected Public: Business or other for-profit; State, Local or Tribal Government.

Estimated Number of Respondents: 2,532.

Estimated Number of Responses: 3,141.

Estimated Total Annual Burden Hours: 836 hours.

Estimated Total Annual Respondent Cost: $38,864

Estimated Respondents' Operation and Maintenance Costs: $0.

Estimated Respondents' Capital and Start-Up Costs: $0.

Estimated Total Annual Cost to the Federal Government: $89,668.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-15612 Filed 7-21-21; 8:45 am]

BILLING CODE 9111-76-P